NATIONAL ARCHIVES AND RECORDS ADMINISTRATION

Nixon Presidential Historical Materials: Opening of Materials

AGENCY: National Archives and Records Administration.

ACTION: Notice of opening of additional materials.

SUMMARY: This notice announces the opening of additional Nixon Presidential Historical Materials by the Richard Nixon Presidential Library and Museum, a division of the National Archives and Records Administration. Notice is hereby given that, in accordance with section 104 of Title I of the Presidential Recordings and Materials Preservation Act (PRMPA, 44 U.S.C. 2111 note) and 1275.42(b) of the PRMPA Regulations implementing the Act (36 CFR part 1275), the Agency has identified, inventoried, and prepared for public access additional textual materials and sound recordings from among the Nixon Presidential Historical Materials.

DATES: The Richard Nixon Presidential Library and Museum intends to make the materials described in this notice available to the public on Thursday, July 1, 2010 at the Richard Nixon Presidential Library and Museum in Yorba Linda, CA, beginning at 9 a.m. (PDT). In accordance with 36 CFR 1275.44, any person who believes it necessary to file a claim of legal right or privilege concerning access to these materials must notify the Archivist of the United States in writing of the claimed right, privilege, or defense by July 2, 2010.

ADDRESSES: The Richard Nixon Presidential Library and Museum, a division of the National Archives, is located at 18001 Yorba Linda Blvd., Yorba Linda, CA. Researchers must have a NARA researcher card, which they may obtain when they arrive at the facility. Petitions asserting a legal or constitutional right or privilege that would prevent or limit public access to the materials must be sent to the Archivist of the United States, National Archives at College Park, 8601 Adelphi Rd., College Park, Maryland 20740-6001.

FOR FURTHER INFORMATION CONTACT: Timothy Naftali, Director, Richard Nixon Presidential Library and Museum, 714-983-9120.

SUPPLEMENTARY INFORMATION: The following materials will be made available in accordance with this notice:

1. Previously restricted textual materials. Volume: 3 cubic feet. A number of textual materials previously withheld from public access have been reviewed for release and/or declassified under the systematic declassification review provisions and under the mandatory review provisions of Executive Order 12958, as amended; Executive Order 13526; or in accordance with 36 CFR 1275.56 (Public Access regulations). The materials are from integral file segments for the White House Special Files, Staff Member and Office Files; National Security Council (NSC Files); the Henry A. Kissinger (HAK) Office Files; and the Henry Kissinger Telephone Conversation Transcripts.

2. White House Central Files, Staff Member and Office Files. Volume: 37.5 cubic feet. The White House Central Files Unit was a permanent organization within the White House complex that maintained a central filing and retrieval system for the records of the President and his staff. The Staff Member and Office Files consist of materials that were transferred to the Central Files but were not incorporated into the Subject Files. The following file group will be made available: Daniel Patrick Moynihan.

3. White House Central Files, Name Files: Volume: 1 cubic foot. The Name Files were used for routine materials filed alphabetically by the name of the correspondent; copies of documents in the Name Files were usually filed by subject in the Subject Files. The following Name Files folders will be made available: Block, H; Chaplin, A-C; Conrad, P; Copl; Dad; Heller, J.; Kese; Lennon, F-K; Mazo, Earl; Ono; Rockwell, L-P; Simpson, J.; Simpson, JE; Simpson, Jan; Stau; Thompson, Howard; Trud; Wyeth.

4. White House Communications Agency Sound Recordings. Volume: 5.25 hours. The White House Communications Agency (WHCA) was a permanent organization within the White House Military Office responsible for preparing audio, motion picture, film, and photographic records of White House events. The WHCA Sound Recordings record the public utterances of President Nixon as well as selected speeches and remarks by other members of the Nixon Administration. A number of WHCA Sound Recordings from the Summer Intern Briefings from (Nixon) White House Staff series have been reviewed for release in accordance with 36 CFR 1275.56 (Public Access regulations):

Rita Hauser/Pat Hitt/Sallyanne Payton (July 31, 1972)

Earl Mazo (August 6, 1972)

Donald Rumsfeld (August 3, 1971)

Herbert Stein (August 4, 1972)

Dated: May 26, 2010.
David Ferriero,
Archivist of the United States.

[FR Doc. 2010-13246 Filed 6-1-10; 8:45 am]

BILLING CODE 7515-01-P